DEPARTMENT OF ENERGY

Federal Energy Regulatory Commission

[Project No. 400-051]

Public Service Company of Colorado; Notice of Settlement Agreement and Soliciting Comments and Reply Comments

December 24, 2009.

Take notice that the following Settlement Agreement (Settlement) has been filed with the Commission and is available for public inspection.

a. Type of Application: Settlement Agreement.

b. Project No.: P-400-051.

c. Date Filed: December 23, 2009.

d. Applicant: Public Service Company of Colorado (PSCo).

e. Name of Project: Ames Hydroelectric Project.

f. Location: The existing project is located on Lake Fork, Howard Fork, and South Fork of the San Miguel River, in San Miguel County, about 6 miles north of Telluride, Colorado. The Ames Project occupies 99 acres of the Uncompahgre National Forest.

g. Filed Pursuant to: Rule 602 of the Commission's Rules of Practice and Procedure, 18 CFR 385.602 Federal Power Act 16 U.S.C. 791(a)-825(r).

h. Applicant Contact: Randy Rhodes, Public Service Company of Colorado, 4653 Table Mountain Drive, Golden Colorado 80403; telephone (720) 497-2123.

i. FERC Contact: David Turner (202) 502-6091 or via e-mail at david.turner@ferc.gov.

j. Deadline for filing comments on the Settlement: January 12, 2010. Reply comments due January 22, 2010. Comments may be filed electronically via the Internet in lieu of paper. The Commission strongly encourages electronic filings. See 18 CFR 385.2001(a)(1)(iii) and the instructions on the Commission's Web site (http://www.ferc.gov) under the “e-Filing” link. Written comments (original and eight copies) should be filed with: Kimberly D. Bose, Secretary, Federal Energy Regulatory Commission, 888 First Street, NE., Washington, DC 20426.

k. PSCo filed the settlement agreement, which resolves all aquatic habitat and fishery related issues in conjunction with the United States Forest Service's proposed section 4(e) conditions for the Ames Hydroelectric Project. PSCo filed the settlement agreement on behalf of itself, United States Forest Service, and the Colorado Department of Natural Resources. PSCo requests that the Commission accept and incorporate, without material modification, all of the proposed license articles in Appendix B of the settlement agreement in the new project license.

l. The A copy of the settlement agreement is available for review at the Commission in the Public Reference Room or may be viewed on the Commission's Web site at http://www.ferc.gov, using the “e-Library” link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Kimberly D. Bose,
Secretary.

[FR Doc. E9-31092 Filed 12-31-09; 8:45 am]

BILLING CODE 6717-01-P